SMALL BUSINESS ADMINSITRATION

Houston District Advisory Council; Public Meeting

Pursuant to the Federal Advisory Committee Act, 5 U.S.C. app. 2, section 10(a)(2), notice is hereby given that the U.S. Small Business Administration Houston District Advisory Council will hold a federal public meeting on Friday February 8, 2008, starting at 11 a.m. The meeting will take place at the U.S. Small Business Administration, Houston District Office, located at 8701 S. Gessner, Suite 1200, Houston, TX 77074.

The purpose of the meeting is to discuss the following: Houston District Office Performance for 2007; Houston District Office Goals for 2008; National SBA Initiative; Local Issues from the Advisory Council Members; the Role of the District Offices through Centralization including Marketing, Processing and Legal; Community Express Loans; 504 Loans; 7(a) Loans; Patriot Express Loans; 8(a) Certification; SBA's Resource Partners—SBDC and SCORE; Small Business Week Awards Luncheon; MID America.

For further information, please contact Alfreda Crawford, Business Development Specialist, at the U.S. Small Business Administration, Houston District Office, 8701 S. Gessner, Suite 1200, Houston, TX 77074; e-mail, Alfreda.Crawford@sba.gov; telephone (713) 773-6555.

Cherylyn Lebon,
Committee Management Officer.

[FR Doc. E8-1773 Filed 1-30-08; 8:45 am]

BILLING CODE 8025-01-P